DEPARTMENT OF HOMELAND SECURITY

Federal Emergency Management Agency

[Docket ID FEMA-2024-0002; Internal Agency Docket No. FEMA-B-2413]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Online location of letter of map revision | Date of modification | Community No.
Florida:
Lake | City of Mount Dora (24-04-0144P). | Patrick C. Comiskey, City of Mount Dora Manager, 510 North Baker Street, Mount Dora, FL 32757. | City Hall, 510 North Baker Street, Mount Dora, FL 32757. | https://msc.fema.gov/portal/advanceSearch. | May 16, 2024 | 120137
Lake | Unincorporated areas of Lake County (24-04-0144P). | Jennifer Barker, Lake County Manager, 315 West Main Street, Tavares, FL 32778. | Lake County Public Works Department, 323 North Sinclair Avenue, Tavares, FL 32778. | https://msc.fema.gov/portal/advanceSearch. | May 16, 2024 | 120421
Miami-Dade | City of North Miami (23-04-3494P). | Rasha Cameau, City of North Miami Manager, 776 Northeast 125th Street, North Miami, FL 33161. | Building Department, 12340 Northeast 8th Avenue, North Miami, FL 33161. | https://msc.fema.gov/portal/advanceSearch. | Apr. 29, 2024 | 120655
Monroe | Village of Islamorada (24-04-0111P). | The Honorable Joseph Buddy Pinder III, Mayor, Village of Islamorada, 86800 Overseas Highway, Islamorada, FL 33036. | Building Department, 86800 Overseas Highway, Islamorada, FL 33036. | https://msc.fema.gov/portal/advanceSearch. | May 22, 2024 | 120424
Monroe | Village of Islamorada (24-04-0168P). | The Honorable Joseph Buddy Pinder III, Mayor, Village of Islamorada, 86800 Overseas Highway, Islamorada, FL 33036. | Building Department, 86800 Overseas Highway, Islamorada, FL 33036. | https://msc.fema.gov/portal/advanceSearch. | May 24, 2024 | 120424
Orange | Unincorporated areas of Orange County (23-04-2986P). | The Honorable Jerry L. Demings, Mayor, Orange County, 201 South Rosalind Avenue, 5th Floor, Orlando, FL 32801. | Orange County Public Works Department, Stormwater Management Division, 4200 South John Young Parkway, Orlando, FL 32839. | https://msc.fema.gov/portal/advanceSearch. | May 20, 2024 | 120179
Polk | City of Lakeland (23-04-4869P). | Shawn Sherrouse, City of Lakeland Manager, 228 South Massachusetts Avenue, Lakeland, FL 33801. | Public Works Division, 407 Fairway Avenue, Lakeland, FL 33801. | https://msc.fema.gov/portal/advanceSearch. | May 23, 2024 | 120267
Polk | Unincorporated areas of Polk County (23-04-4869P). | Bill Beasley, Polk County Manager, 330 West Church Street, Bartow, FL 33831. | Polk County Land Development Division, 330 West Church Street, Bartow, FL 33831. | https://msc.fema.gov/portal/advanceSearch. | May 23, 2024 | 120261
Georgia: DeKalb | City of Chamblee (23-04-3034P). | The Honorable Brian K. Mock, Mayor, City of Chamblee, 3518 Broad Street, Chamblee, GA 30341. | City Hall, 3518 Broad Street, Chamblee, GA 30341. | https://msc.fema.gov/portal/advanceSearch. | May 17, 2024 | 130066
Maine:
Hancock | City of Ellsworth (22-01-0657P). | Glenn Moshier, Manager, City of Ellsworth, 1 City Hall Plaza, Ellsworth, ME 04605. | City Hall, 1 City Hall Plaza, Ellsworth, ME 04605. | https://msc.fema.gov/portal/advanceSearch. | May 31, 2024 | 230066
Hancock | City of Ellsworth (22-01-0658P). | Glenn Moshier, Manager, City of Ellsworth, 1 City Hall Plaza, Ellsworth, ME 04605. | City Hall, 1 City Hall Plaza, Ellsworth, ME 04605. | https://msc.fema.gov/portal/advanceSearch. | Jul. 8, 2024 | 230066
Hancock | Town of Amherst (22-01-0873P). | Westley Ellington, Selectman, Town of Amherst, P.O. Box 40, Aurora, ME 04408. | Town Hall, 572 Airline Road, Aurora, ME 04605. | https://msc.fema.gov/portal/advanceSearch. | May 31, 2024 | 230272
Hancock | Town of Blue Hill (22-01-1014P). | Ellen Best, Chair, Town of Blue Hill Select Board, 18 Union Street, Blue Hill, ME 04614. | Town Hall, 18 Union Street, Blue Hill, ME 04614. | https://msc.fema.gov/portal/advanceSearch. | May 31, 2024 | 230274
Hancock | Town of Bucksport (22-01-1017P). | The Honorable Peter L. Stewart, Mayor, Town of Bucksport, 766 State Route 46, Bucksport, ME 04416. | Town Hall, 50 Main Street, Bucksport, ME 04416. | https://msc.fema.gov/portal/advanceSearch. | May 31, 2024 | 230065
Hancock | Town of Dedham (22-01-1013P). | Peter Merritt, Chair, Town of Dedham Selectmen, 2073 Main Road, Suite A, Dedham, ME 04429. | Town Hall, 2073 Main Road, Suite A, Dedham, ME 04429. | https://msc.fema.gov/portal/advanceSearch. | May 31, 2024 | 230279
Hancock | Town of Eastbrook (22-01-0871P). | Julie Curtis, First Selectman, Town of Eastbrook Board of Selectmen, 959 Eastbrook Road, Eastbrook, ME 04634. | Town Hall, 959 Eastbrook Road, Eastbrook, ME 04634. | https://msc.fema.gov/portal/advanceSearch. | May 31, 2024 | 230281
Hancock | Town of Franklin (22-01-1012P). | Dawn R. Carter, Chair, Town of Franklin Select Board, P.O. Box 206, Franklin, ME 04634. | Town Hall, 34 Main Street, Franklin, ME 04634. | https://msc.fema.gov/portal/advanceSearch. | May 31, 2024 | 230282
Hancock | Town of Gouldsboro (22-01-1019P). | Eve Wilkinson, Manager, Town of Gouldsboro, P.O. Box 68, Prospect Harbor, ME 04669. | Town Hall, 59 Main Street, Prospect Harbor, ME 04669. | https://msc.fema.gov/portal/advanceSearch. | May 31, 2024 | 230283
Hancock | Town of Hancock (22-01-1012P). | John Bridges Jr., Chair, Town of Hancock Select Board, P.O. Box 68, Hancock, ME 04640. | Town Hall, 18 Point Road, Hancock, ME 04640. | https://msc.fema.gov/portal/advanceSearch. | May 31, 2024 | 230284
Hancock | Town of Mariaville (22-01-0872P). | Ross Edgecomb, Chair, Town of Mariaville Select Board, 1686 Mariaville Road, Mariaville, ME 04605. | Town Hall, 1686 Mariaville Road, Mariaville, ME 04605. | https://msc.fema.gov/portal/advanceSearch. | May 31, 2024 | 230286
Hancock | Town of Mariaville (22-01-0873P). | Ross Edgecomb, Chair, Town of Mariaville Select Board, 1686 Mariaville Road, Mariaville, ME 04605. | Town Hall, 1686 Mariaville Road, Mariaville, ME 04605. | https://msc.fema.gov/portal/advanceSearch. | May 31, 2024 | 230286
Hancock | Town of Orland (22-01-1018P). | Edward Rankin, Sr., Chair, Town of Orland Board of Selectmen, P.O. Box 67, Orland, ME 04472. | Town Hall, 25 School House Road, Orland, ME 04472. | https://msc.fema.gov/portal/advanceSearch. | May 31, 2024 | 230288
Hancock | Town of Osborn (22-01-0871P). | Greg Bassett, First Selectman, Town of Osborn Board of Selectmen, 197 Moose Hill Road, Osborn, ME 04605. | Town Hall, 197 Moose Hill Road, Osborn, ME 04605. | https://msc.fema.gov/portal/advanceSearch. | May 31, 2024 | 230595
Hancock | Town of Otis (22-01-1013P). | James Dunn, Selectman, Town of Otis Select Board, 132 Otis Road, Otis, ME 04605. | Town Hall, 132 Otis Road, Otis, ME 04605. | https://msc.fema.gov/portal/advanceSearch. | May 31, 2024 | 230289
Hancock | Town of Penobscot (22-01-1014P). | Harold Hatch, Chair, Town of Penobscot Select Board, P.O. Box 4, Penobscot, ME 04476. | Town Hall, 1 Southern Bay Road, Penobscot, ME 04476. | https://msc.fema.gov/portal/advanceSearch. | May 31, 2024 | 230290
Hancock | Town of Sullivan (22-01-1019P). | Ray Weintraub, Manager, Town of Sullivan, 1888 U.S. Highway 1, Sullivan, ME 04664. | Town Hall, 1888 U.S. Highway 1, Sullivan, ME 04664. | https://msc.fema.gov/portal/advanceSearch. | May 31, 2024 | 230295
Hancock | Town of Surry (22-01-0658P). | Mary Allen, Chair, Town of Surry Board of Selectmen, 741 North Bend Road, Surry, ME 04684. | Town Hall, 741 North Bend Road, Surry, ME 04684. | https://msc.fema.gov/portal/advanceSearch. | Jul. 8, 2024 | 230296
Hancock | Town of Surry (22-01-1014P). | Mary Allen, Chair, Town of Surry Board of Selectmen, 741 North Bend Road, Surry, ME 04684. | Town Hall, 741 North Bend Road, Surry, ME 04684. | https://msc.fema.gov/portal/advanceSearch. | May 31, 2024 | 230296
Hancock | Town of Waltham (22-01-0871P). | Stephen Jordan, First Selectman, Town of Waltham Board of Selectmen, 1520 Waltham Road, Waltham, ME 04605. | Waltham Municipal Building, 1520 Waltham Road, Waltham, ME 04605. | https://msc.fema.gov/portal/advanceSearch. | May 31, 2024 | 230301
Hancock | Town of Waltham (22-01-1010P). | Stephen Jordan, First Selectman, Town of Waltham Board of Selectmen, 1520 Waltham Road, Waltham, ME 04605. | Waltham Municipal Building, 1520 Waltham Road, Waltham, ME 04605. | https://msc.fema.gov/portal/advanceSearch. | May 31, 2024 | 230301
Hancock | Township of Fletcher's Landing (22-01-1012P). | Stacie R. Beyer, Executive Director, Maine Land Use Planning Commission, Township of Fletchers Landing, Harlow Building, 4th Floor, 18 Elkins Lane, Augusta, ME 04333. | Land Use Planning Commission, Harlow Building, 4th Floor, 18 Elkins Lane, Augusta, ME 04333. | https://msc.fema.gov/portal/advanceSearch. | May 31, 2024 | 230458
Hancock | Township of T07 SD (22-01-1019P). | Stacie R. Beyer, Executive Director, Maine Land Use Planning Commission, Township of T07 SD, Harlow Building, 4th Floor, 18 Elkins Lane, Augusta, ME 04333. | Land Use Planning Commission, Harlow Building, 4th Floor, 18 Elkins Lane, Augusta, ME 04333. | https://msc.fema.gov/portal/advanceSearch. | May 31, 2024 | 230598
Hancock | Township of T09 SD (22-01-1012P). | Stacie R. Beyer, Executive Director, Maine Land Use Planning Commission, Township of T09 SD, Harlow Building, 4th Floor, 18 Elkins Lane, Augusta, ME 04333. | Land Use Planning Commission, Harlow Building, 4th Floor, 18 Elkins Lane, Augusta, ME 04333. | https://msc.fema.gov/portal/advanceSearch. | May 31, 2024 | 230704
Hancock | Township of T10 SD (22-01-1019P). | Stacie R. Beyer, Executive Director, Maine Land Use Planning Commission, Harlow Building, 4th Floor, 18 Elkins Lane, Augusta, ME 04333. | Land Use Planning Commission, Harlow Building, 4th Floor, 18 Elkins Lane, Augusta, ME 04333. | https://msc.fema.gov/portal/advanceSearch. | May 31, 2024 | 230599
Hancock | Township of T32 MD (22-01-0873P). | Stacie Beyer, Land Use Planning Commission Director, Maine Department of Agriculture, Conservation & Forestry, 22 State House Station, 18 Elkins Lane, Augusta, ME 04333. | Land Use Planning Commission, 22 State House Station, 18 Elkins Lane, Augusta, ME 04333. | https://msc.fema.gov/portal/advanceSearch. | May 31, 2024 | 230706

[FR Doc. 2024-03722 Filed 2-22-24; 8:45 am]

BILLING CODE 9110-12-P